DEPARTMENT OF ENERGY

Western Area Power Administration

Construction and Operation of the Proposed NextGen Energy Facility, South Dakota

AGENCY: Western Area Power Administration, DOE.

ACTION: Notice of Intent to Prepare an Environmental Impact Statement and Conduct Scoping Meetings; Notice of Floodplain and Wetlands Involvement.

SUMMARY: The Western Area Power Administration (Western), an agency of the U.S. Department of Energy (DOE) intends to prepare an environmental impact statement (EIS) for the construction and operation of the proposed NextGen Energy Facility (Project) in South Dakota. Basin Electric Power Cooperative (Basin Electric) has applied to interconnect the proposed Project to Western's electric power transmission system. The EIS will address the construction and operation of the proposed Project, which includes a 500 to 700 megawatt (MW) (net) coal-fired generation facility and ancillary equipment and facilities east of the Missouri River in South Dakota. Portions of the proposed Project may affect floodplains and wetlands in the area. Western will hold public scoping meetings near the Project area during the public scoping period to share information and receive comments and suggestions on the scope of the EIS.

DATES: Open house public scoping meetings will be held August 21, 22, and 23, 2007, from 5 p.m. to 8 p.m. The public scoping period starts with publication of this notice in the Federal Register and will continue through August 31, 2007. To be assured consideration, all comments or suggestions regarding the appropriate scope of the EIS must be received by the close of the scoping period.

ADDRESSES: Open-house public scoping meetings will be held at the following locations:

1. August 21, 2007, Selby Opera House, 3409 Main Street, Selby, SD 57472.

2. August 22, 2007, Phoenix Center, 117 South Main Street, Onida, SD 57564.

3. August 23, 2007, Woonsocket Community Center, Dumont Avenue, Woonsocket, SD 57385.

Written comments on the scope of the EIS should be addressed to:

Ms. Catherine Cunningham, Western Area Power Administration, P.O. Box 281213, Lakewood, CO 80228, fax (720) 962-7269, e-mail: NextGenEIS@wapa.gov.

FOR FURTHER INFORMATION CONTACT: Ms. Catherine Cunningham, Western Area Power Administration, P.O. Box 281213, Lakewood, CO 80228, telephone (720) 962-7000, fax (720) 962-7269, e-mail: NextGenEIS@wapa.gov. For general information on DOE's National Environmental Policy Act (NEPA) review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western, an agency within DOE, markets Federal hydro-electric power to preference customers, as specified by law.

These customers include municipalities, cooperatives, public utilities, irrigation districts, Federal and State agencies, and Native American tribes in 15 western states, including South Dakota. Western owns and operates about 17,000 miles of transmission line.

Basin Electric is a regional wholesale electric generation and transmission cooperative owned and controlled by its member cooperatives. Basin Electric serves approximately 2.5 million customers covering 430,000 square miles in portions of Colorado, Iowa, Minnesota, Montana, Nebraska, New Mexico, North Dakota, South Dakota, and Wyoming.

Project Description

Basin Electric has applied to Western for interconnection with Western's electric transmission system. Basin Electric proposes to construct and operate a 500 to 700 MW base-load coal-fired generation facility, water pipeline, transmission lines, transmission interconnection(s), and other associated facilities in central/north-central South Dakota. The purpose of the Project is to help serve increased base load demand for electric power in the eastern portion of Basin Electric's service area. Basin Electric's eastern service area is comprised of western Nebraska, northwestern and central Iowa, portions of southern Minnesota, all of South Dakota, portions of eastern Montana, and western and central North Dakota. The need for additional generating capacity is driven by the increasing electrical power usage of Basin Electric membership consumers. In 2007, Basin Electric prepared a forecast showing load and capability surpluses/deficits through the year 2021. The forecast predicts that by 2014, there will be a deficit of 800 to 900 MW for the eastern portion of its service area. Addition of 500 to 700 MW of base load generation to the east side of Basin Electric's service area by 2014 is one component toward meeting Basin Electric's future capacity and energy requirements.

Western intends to prepare an EIS for the proposed Project. Four preliminary alternative generation sites have been identified. During the scoping process, Western expects to refine this list of alternative generation sites and each of its associated facilities to determine which of them, along with the No Action Alternative, will be evaluated in detail in the EIS. The four preliminary alternative generation facility sites include the following:

• The Selby Site (about 2.75 miles southwest of Selby, South Dakota).

• The Selby East Site (about 2.5 miles northeast of Java, South Dakota).

• The Blunt Site (about 1.7 miles east of Blunt, South Dakota).

• The Onida Site (about 2.5 miles south of Onida, South Dakota).

These four alternative locations are in close proximity to coal fuel delivery service, water sources, and existing transmission system for the delivery of power to its members. The proposed generation facility would require new infrastructure, including a water intake structure along Lake Oahe on the mainstem of the Missouri River; a water pumping system; approximately 15 to 30 miles of water pipeline; approximately 40 to 110 miles of 115/230/345-kilovolt (kV) transmission line; a 230/345-kV substation and possibly a 345/500-kV substation; road access to generation, water pipeline, and transmission line facilities; and solid waste disposal facilities. No changes are expected for existing railroad infrastructure. Included in the infrastructure estimates noted above is a transmission line of approximately 40 miles in length from the Broadland Substation, about 3 miles west of Huron, South Dakota, to the Storla Substation, about 10 miles southwest of Woonsocket, South Dakota. Power system studies indicate this transmission system addition would be needed for the Selby and Selby East generation site alternatives. The transmission addition between Broadland and Storla is not necessary for the Blunt or Onida generation site alternatives. All other proposed water pipeline and transmission line facilities would be located in the vicinity of their respective proposed generation facility sites.

For the proposed 500 to 700 MW generation facility, Basin Electric proposes to use a single pulverized coal-fired steam boiler and a single reheat steam turbine. It would meet or exceed all applicable environmental requirements. The plant would burn sub-bituminous coal, known for its relatively high-moisture, low-sulfur content with excellent combustion qualities. The generation facility would occupy approximately 2,400 acres, including a turbine generator building, coal bunkers, boiler, baghouse, stack, wastewater treatment building, water treatment building, switchyard, raw water pond, cooling tower, landfill, evaporation pond, coal unloading facility, coal storage silos, coal storage pile, stormwater runoff pond, and coal yard runoff pond. During normal operations, the generation facility would operate at its maximum continuous rating output.

Basin submitted two generator interconnection requests and two transmission service requests to Western for the proposed Project. Since the proposed Project requires interconnection with Western's system, Western must comply with NEPA (42 U.S.C. 4321-4347, as amended), Council on Environmental Quality Regulations for Implementing NEPA (40 CFR parts 1500-1508), and DOE NEPA Implementing Procedures (10 CFR part 1021). Because the proposed Project may involve action in floodplains or wetlands, the EIS will include, as applicable, a floodplain/wetland assessment and floodplain/wetland statement of findings following DOE regulations for compliance with floodplain and wetlands environmental review (10 CFR part 1022).

Agency Responsibilities

Western is the lead Federal agency, as defined at 40 CFR 1501.5, for preparation of the NEPA analysis. The U.S. Army Corps of Engineers will likely be a cooperating agency because of their jurisdiction over proposed water intake activities involving the Missouri River. With this notice, Tribes and agencies with jurisdiction or special expertise are invited to be cooperating agencies. Such Tribes or agencies may make a request to Western to be a cooperating agency by contacting Ms. Cunningham. Designated cooperating agencies have certain responsibilities to support the NEPA process, as specified at 40 CFR 1501.6(b).

Environmental Issues

This notice is to inform agencies and the public of the proposed Project and solicit comments and suggestions for consideration in preparing the EIS. To help the public frame its comments, this notice contains a list of potential environmental issues Western has tentatively identified for analysis. These issues include:

1. Impacts on protected, threatened, endangered, or sensitive species of animals or plants or their critical habitats;

2. Impacts on other biological resources;

3. Impacts on land use, recreation, and transportation;

4. Impacts on floodplains and wetlands;

5. Impacts on cultural or historic resources and tribal values;

6. Impacts on human health and safety;

7. Impacts on air, soil, and water resources;

8. Visual impacts; and

9. Socioeconomic impacts and disproportionately high and adverse impacts to minority and low-income populations.

This list is not intended to be all-inclusive or to imply any predetermination of impacts. Western invites interested parties to suggest specific issues within these general categories, or other issues not included above, to be considered in the EIS.

Public Participation

Public participation and full disclosure are planned for the entire EIS process. The EIS process will include public scoping open houses and a scoping comment period to solicit comments from interested parties; consultation and involvement with appropriate Federal, State, local, and Tribal governmental agencies; public review and hearings on the draft EIS; publication of a final EIS; and publication of a record of decision expected in Spring 2009. Additional informal public meetings may be held in the proposed Project area if public interest and issues indicate a need.

The public scoping period begins with publication of this notice in the Federal Register and closes August 31, 2007. Western will hold open house public scoping meetings (see DATES and ADDRESSES). All meeting locations are handicapped-accessible. Anyone needing special accommodations should contact Western to make arrangements. The purpose of the scoping meetings is to provide information about the proposed Project, display maps, answer questions, and take written comments from interested parties. Attendees are welcome to come and go at their convenience and to speak one-on-one with Western and Project representatives. The public will have the opportunity to provide written comments at the meeting. In addition, attendees may provide written comments by fax, e-mail, or U.S. Postal Service mail. To help define the scope of the EIS, comments should be received by Western no later than August 31, 2007. Anonymous comments will not be accepted.

Dated: July 11, 2007.
Timothy J. Meeks,
Administrator.

[FR Doc. E7-14532 Filed 7-26-07; 8:45 am]

BILLING CODE 6450-01-P